DEPARTMENT OF HOMELAND SECURITY

Coast Guard

33 CFR Part 117

[USCG-2008-0018]

Drawbridge Operation Regulations; Elizabeth River—Eastern Branch, at Norfolk, VA

AGENCY: Coast Guard, DHS.

ACTION: Notice of temporary deviation from regulations.

SUMMARY: The Commander, Fifth Coast Guard District, has approved a temporary deviation from the regulations governing the operation of the Norfolk Southern Railroad Bridge, at mile 2.7, across the Elizabeth River—Eastern Branch at Norfolk, VA. This deviation allows the drawbridge to remain closed-to-navigation beginning at 7 a.m. on Monday, February 4, 2008 until and including 6 p.m. on Saturday, March 8, 2008, to facilitate rehabilitation of the operating machinery of the swing span.

DATES: This deviation is effective from 7 a.m. on February 4, 2008 to 6 p.m. on March 8, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill H. Brazier, Bridge Management Specialist, Fifth Coast Guard District, at (757) 398-6422.

SUPPLEMENTARY INFORMATION: The Norfolk Southern Railroad Bridge (NS# V2.8 Bridge), a swing-type drawbridge, has a vertical clearance in the closed position to vessels of six feet, above mean high water.

Norfolk Southern Railways, the bridge owner, has requested a temporary deviation from the current operating regulations set out in 33 CFR 117.1007(a).

To facilitate the repairs to the operating machinery, the NS# V2.8 Bridge will be maintained in the closed-to-navigation position beginning at 7 a.m. on Monday, February 4, 2008 until and including 6 p.m. on Saturday, March 8, 2008.

The Coast Guard has informed the known users of the waterway of the closure periods for the bridge so that these vessels can arrange their transits to minimize any impact caused by the temporary deviation.

In accordance with 33 CFR 117.35(e), the drawbridge must return to its regular operating schedule immediately at the end of the designated time period.

This deviation from the operating regulations is authorized under 33 CFR 117.35.

Dated: January 11, 2008.
Waverly W. Gregory, Jr.,
Chief, Bridge Administration Branch, Fifth Coast Guard District.

[FR Doc. E8-1246 Filed 1-24-08; 8:45 am]

BILLING CODE 4910-15-P